DEPARTMENT OF HEALTH AND HUMAN SERVICES

National Institutes of Health

National Cancer Institute Cancellation Notice of Meeting

Notice is hereby given of the cancellation of the National Cancer Institute Special Emphasis Panel, May 21, 2018, 5:00 p.m. to May 22, 2018, 5:00 p.m., Bethesda North Marriott Hotel & Conference Center, 5701 Marinelli Road, Linden Oak, Rockville, MD, 20852 which was published in the Federal Register on April 6, 2018, 83 FR 14869.

This meeting has been cancelled due to an administrative oversight. A new meeting announcement will be posted soon. The meeting is closed to the public.

Dated: April 18, 2018.
Melanie J. Pantoja,
Program Analyst, Office of Federal Advisory Committee Policy.

[FR Doc. 2018-08446 Filed 4-23-18; 8:45 am]

BILLING CODE 4140-01-P